NATIONAL SCIENCE FOUNDATION

Agency Information Collection Activities: Proposed Collection; Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 67 FR 71595 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Survey of Earned Doctorates.

OMB Approval Number: 3145-0019.

Type of Request: Intent to seek approval to extend an information collection for three years.

1. Abstract: The National Science Foundation Act of 1950, as subsequently amended, includes a statutory charge to “* * * provide a central clearinghouse for the collection, interpretation, and analysis of data on scientific and engineering resources, and to provide a source of information for policy formulation by other agencies of the Federal Government.” The Survey of Earned Doctorates is part of an integrated survey system that meets the human resources part of this mission.

The Survey of Earned Doctorates has been conducted continuously since 1958 and is jointly sponsored by six Federal agencies in order to avoid duplication. It is an accurate, timely source of information on our Nation's most precious resource—highly educated individuals. Data are obtained via paper questionnaire or Web option from each person earning a research doctorate at the time they receive the degree. Data are collected on their field of specialty, educational background, sources of support in graduate school, debt level, postgraduation plans for employment, and demographic characteristics. The Federal government, universities, researchers, and others use the information extensively.

The National Science Foundation, as the lead agency, publishes statistics from the survey in many reports, but primarily in the annual publication series, “Science and Engineering Doctorates”. The National Opinion Research Corporation at the University of Chicago prepares and disseminates a free interagency report entitled “Doctorate Recipients from U.S. Universities: Summary Report.” These reports are available in print and electronically on the World Wide Web.

The survey will be collected in conformance with the Privacy Act of 1974/Confidential Information Protection and Statistical Efficiency Act of 2002. The Federal government considers and NSF states that responses from individuals are voluntary. NSF will insure that all information collected will be kept strictly confidential and will be used only for research or statistical purposes, analyzing data, and preparing scientific reports and articles.

2. Expected Respondents: A total response rate of 92% of the total 40,744 persons who earned a research doctorate was obtained in academic year 2000/2001. This level of response rate has been consistent for several years. The respondents will be individuals and the estimated number of respondents annually is 37,485 (based on 2001 data).

3. Estimate of Burden: The Foundation estimates that, on average, 19 minutes per respondent will be required to complete the survey, for a total of 11,870 hours for all respondents (37,485 based on the Academic 2000/2001 number). This is reduced by 2,358 hours from the last annual estimate approved by OMB; this reduction is due to a revised, more efficient section on educational history and a declining number of research doctorate recipients since 1998.

Dated: February 20, 2003.
Suzanne H. Plimpton,
Reports Clearance Officer, National Science Foundation.

[FR Doc. 03-4452 Filed 2-25-03; 8:45 am]

BILLING CODE 7555-01-M